DEPARTMENT OF HOMELAND SECURITY

Coast Guard

[USCG-2005-20264]

National Maritime Security Advisory Committee

AGENCY: U.S. Coast Guard, DHS.

ACTION: Notice of meeting and announcement of membership.

SUMMARY: The National Maritime Security Advisory Committee (NMSAC) will hold its inaugural meeting to discuss various issues relating to national maritime security. This notice announces the date, time, and location for the first meeting of the NMSAC. It also announces the members appointed to the Committee.

DATES: NMSAC will meet on Thursday, March 3, 2005, from 9 a.m. to 5 p.m. and Friday, March 4, 2005, from 8 a.m. to 12:30 p.m. The meeting may close early if all business is finished. Written material and requests to make oral presentations should reach the Coast Guard on or before February 18, 2005. Any material requested to be distributed to each member of the Committee should reach the Coast Guard on or before February 23, 2005.

ADDRESSES: NMSAC will meet in the Conference Center at the Sheraton Suites, Old Town, 801 North St. Asaph St., Alexandria, VA. Send written material and requests to make oral presentations to LCDR Bruce Walker, Commandant (G-MPS-2), U.S. Coast Guard Headquarters, 2100 Second St., SW., Washington, DC 20593-0002. This notice is available on the Internet at http://dms.dot.gov.

FOR FURTHER INFORMATION CONTACT: LCDR Bruce Walker, Assistant to the Executive Director, telephone 202-267-4148, fax 202-267-4130.

SUPPLEMENTARY INFORMATION: Notice of the meeting is given under the Federal Advisor Committee Act, 5 U.S.C. App. 2 (Pub. L. 92-463, 86 Stat. 770).

Agenda of Meeting

The agenda includes the following for both days:

(1) Introduction and swearing-in of the new members.

(2) Briefings by Department of Homeland Security officials on national maritime security issues.

(3) New committee business.

(4) Staff administration issues.

Procedural

The meeting is open to the public. Please note that the meeting may close early if all business is finished. At the Chair's discretion, members of the public may make oral presentations during the meeting. If you would like to make an oral presentation at the meeting, please notify the Assistant to the Executive Director no later than February 18, 2005. If you would like a copy of your material distributed to each member of the Committee in advance of the meeting, please submit 25 copies to the Executive Director no later than February 23, 2005.

Information on Services for Individuals With Disabilities

For information on facilities or services for individuals with disabilities or to request special assistance at the meeting, contact the Assistant to the Executive Director as soon as possible.

Membership

The twenty members appointed to the NMSAC on December 29, 2004, by the Secretary, Department of Homeland Security are: Mr. Christopher Louis Koch, President and CEO, World Shipping Council; Mr. Joseph H. Langjahr, Vice President & General Counsel, Foss Maritime Company; Mr. Thomas E. Thompson, Executive Vice President, International Council of Cruise Lines; Mr. John C. Dragone, Vice President, Operating Division, Maritrans Operating Company, L.P.; Ms. Mary Frances Culnane, Manager, San Francisco Bay Area Water Transit Authority; Mr. Basil Maher, President and Chief Operating Officer, Maher Terminals; Mr. Charles Raymond, Chairman, President, and CEO, Horizon Lines; Ms. Alice K. Johnson, Senior Supervisor, PPG Industries, Inc.; Mr. Timothy J. Scott, Global Director, Emergency Services, & Security, The Dow Chemical Company; Mr. Mark Witten, Sr. Regulatory Advisor, Gulf of Mexico Deepwater Business Unit, ChevronTexaco; Mr. Robert R. Merhige, III, Deputy Executive Dir., Virginia Port Authority (retired); Captain Jeffery Wayne Monroe, Director of Ports and Transportation, Portland, Maine; Ms. Lisa Himber, Vice President Maritime Exchange for the Delaware River and Bay; Mr. Wade M. Battles, Managing Director, Port of Houston Authority; Mr. John Hyde, Director, Security & Compliance, Maersk Sealand Inc.; Mr. William Eglinton, Director of Training, Seafarers International Union (SIU) of North America, AFL CIO; Mr. James Stolpinski, President, Local 920, International Longshoremen's Association; Mr. David Halstead, Chief, Florida Domestic Security Preparedness, Florida Department of Law Enforcement; Mr. Theodore Louis Mar, Chief, Marine Safety Branch, California Department of Fish and Game; Dr. Victor Zaloom, Professor and Chair of Industrial Engineering and Director, Engineering Graduate Programs and Center for Ports and Waterways, Lamar University.

Dated: February 4, 2005.
F. J. Sturm,
Captain, U.S. Coast Guard, Chief, Office of Port and Vessel and Facility Security.

[FR Doc. 05-2754 Filed 2-11-05; 8:45 am]

BILLING CODE 4910-15-P